DEPARTMENT OF ENERGY

Federal Energy Regulatory Commission

Combined Notice of Filings #2

Take notice that the Commission received the following electric corporate filings:

Docket Numbers: EC13-4-000.

Applicants: Mountain Wind Power, LLC, Mountain Wind Power II LLC.

Description: Application for Authorization for Disposition of Jurisdictional Facilities and Request for Expedited Action of Mountain Wind Power, LLC, et al.

Filed Date: 10/4/12.

Accession Number: 20121004-5077.

Comments Due: 5 p.m. ET 10/25/12.

Take notice that the Commission received the following exempt wholesale generator filings:

Docket Numbers: EG13-2-000.

Applicants: Calpine Bosque Energy Center, LLC.

Description: Notice of Self-Certification of Exempt Wholesale Generator Status of Calpine Bosque Energy Center, LLC.

Filed Date: 10/4/12.

Accession Number: 20121004-5118.

Comments Due: 5 p.m. ET 10/25/12.

Take notice that the Commission received the following electric rate filings:

Docket Numbers: ER11-3480-000.

Applicants: Wolverine Power Supply Cooperative, Inc.

Description: Wolverine Power Supply Cooperative, Inc. submits Informational Filing with Proposed Refund to Certain Distribution Cooperative Members in 2013.

Filed Date: 10/2/12.

Accession Number: 20121002-5191.

Comments Due: 5 p.m. ET 10/23/12.

Docket Numbers: ER13-20-000.

Applicants: C.N. Brown Electricity, LLC.

Description: CN Brown Electricity MBR Tariff Application to be effective 11/1/2012.

Filed Date: 10/4/12.

Accession Number: 20121004-5000.

Comments Due: 5 p.m. ET 10/25/12.

Docket Numbers: ER13-22-000.

Applicants: Arizona Public Service Company.

Description: Arizona Public Service Company submits Notice of Cancellation of Rate Schedule No. 227.

Filed Date: 10/4/12.

Accession Number: 20121004-5037.

Comments Due: 5 p.m. ET 10/25/12.

Docket Numbers: ER13-23-000.

Applicants: Southern California Edison Company.

Description: Amended SGIA & DSA to 3550 E. Francis St., Ontario Roof Top Solar Project to be effective 12/4/2012.

Filed Date: 10/4/12.

Accession Number: 20121004-5066.

Comments Due: 5 p.m. ET 10/25/12.

Docket Numbers: ER13-24-000.

Applicants: Imperial Valley Solar 1, LLC.

Description: Imperial Valley Solar 1, LLC submits tariff filing per 35.13(a)(2)(iii: Revised Executed Co-Tenancy and Shared Use Agreement to be effective 10/5/2012.

Filed Date: 10/4/12.

Accession Number: 20121004-5097.

Comments Due: 5 p.m. ET 10/25/12.

Docket Numbers: ER13-25-000.

Applicants: Carolina Power & Light Company.

Description: Carolina Power & Light Company submits tariff filing per 35.13(a)(2)(iii: Revised Rate Schedule No. 182 of Carolina Power and Light Company to be effective 12/3/2012.

Filed Date: 10/4/12.

Accession Number: 20121004-5098.

Comments Due: 5 p.m. ET 10/25/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2012.
Nathaniel J. Davis, Sr.,
Deputy Secretary.

[FR Doc. 2012-25268 Filed 10-12-12; 8:45 am]

BILLING CODE 6717-01-P